FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 15, 2013.

A. Federal Reserve Bank of Atlanta (Chapelle Davis, Assistant Vice President) 1000 Peachtree Street NE., Atlanta, Georgia 30309:

1. Lucie VanLandingham Beeley, Leesburg, Georgia, and Stevan Reynolds Tuck, Dawson, Georgia, to retain control of Georgia Community Bancorp, Inc., Dawson, Georgia, and thereby indirectly retain shares of The Citizens State Bank of Taylor County, Reynolds, Georgia.

B. Federal Reserve Bank of San Francisco (Gerald C. Tsai, Director, Applications and Enforcement) 101 Market Street, San Francisco, California 94105-1579:

1. Jefry Baker, Lake Oswego, Oregon, to acquire additional voting shares of Merchants Bancorp, and thereby indirectly acquire additional voting shares of MBank, both of Gresham, Oregon.

Board of Governors of the Federal Reserve System, June 25, 2013.
Margaret McCloskey Shanks,
Deputy Secretary of the Board.

[FR Doc. 2013-15516 Filed 6-27-13; 8:45 am]

BILLING CODE 6210-01-P